DEPARTMENT OF AGRICULTURE

Agricultural Marketing Service

[No. FV-04-378]

Fruit and Vegetable Industry Advisory Committee

AGENCY: Agricultural Marketing Service, USDA.

ACTION: Notice of public meeting.

SUMMARY: The purpose of this notice is to notify all interested parties that the Agricultural Marketing Service (AMS) will hold a Fruit and Vegetable Industry Advisory Committee (Committee) meeting that is open to the public. The U.S. Department of Agriculture (USDA) established the Committee to examine the full spectrum of issues faced by the fruit and vegetable industry and to provide suggestions and ideas to the Secretary of Agriculture on how USDA can tailor its programs to meet the fruit and vegetable industry's needs. This notice sets forth the schedule and location for the meeting.

DATES: Tuesday, July 13, 2004, from 8 a.m. to 5 p.m., and Wednesday, July 14, 2004, from 8 a.m. to 2 p.m.

ADDRESSES: The Committee meeting will be held at the Old Town Holiday Inn Select, 480 King Street, Alexandria, Virginia 22314.

FOR FURTHER INFORMATION CONTACT: Andrew Hatch, Marketing Specialist, Fruit and Vegetable Programs, AMS, USDA, 1400 Independence Avenue, SW., Room 2085-S, Stop 0235, Washington, DC 20250-0235. Telephone: (202) 690-0182. Facsimile: (202) 720-0016. E-mail: andrew.hatch@usda.gov.

SUPPLEMENTARY INFORMATION: Pursuant to the Federal Advisory Committee Act (FACA) (5 U.S.C. App.), the Secretary of Agriculture established the Committee in August 2001 to examine the full spectrum of issues faced by the fruit and vegetable industry and to provide suggestions and ideas to the Secretary on how USDA can tailor its programs to meet the fruit and vegetable industry's needs. The committee was rechartered in July 2003 and new members were appointed from industry nominations.

AMS Deputy Administrator for Fruit and Vegetable Programs, Robert C. Keeney, serves as the Committee's Executive Secretary and Andrew Hatch as the acting Designated Federal Official. Representatives from USDA mission areas and other government agencies affecting the fruit and vegetable industry will be called upon to participate in the Committee's meetings as determined by the Committee Chairperson. AMS is giving notice of the committee meeting to the public so that they may wish to attend and present their recommendations. The meeting is scheduled for Tuesday, July 13, 2004, from 8 a.m. to 5 p.m., and Wednesday, July 14, 2004, from 8 a.m. to 2 p.m., at the Old Town Holiday Inn Select, 480 King Street, Alexandria, Virginia 22314.

Topics to be discussed at the meeting will include: the organizational structure of the Perishable Agriculture Commodities Act Program, federal crop insurance programs, agricultural labor, and USDA programs that encourage increased consumption of fruits and vegetables.

Those parties that wish to speak at the meeting should register on or before July 2, 2004. To register as a speaker, please e-mail andrew.hatch@usda.gov or facsimile to (202) 720-0016.

Registrants should include their name, address, and daytime telephone number. Depending on the number of registered speakers, time limits may be imposed on speakers. Speakers who have registered in advance will be given priority.

If you require special accommodations, such as a sign language interpreter, please contact the person listed for FOR FURTHER INFORMATION CONTACT. The meeting will be recorded, and information about obtaining a transcript will be provided at the meeting.

The Secretary of Agriculture has selected a diverse group of members representing a broad spectrum of persons interested in providing suggestions and ideas on how USDA can tailor its programs to meet the fruit and vegetable industry's needs. Equal opportunity practices were considered in all appointments to the Committee in accordance with USDA policies.

Dated: June 10, 2004.
A. J. Yates,
Administrator, Agricultural Marketing Service.

[FR Doc. 04-13691 Filed 6-16-04; 8:45 am]

BILLING CODE 3410-02-P